SMALL BUSINESS ADMINISTRATION

Revocation of License of Small Business Investment Company

Pursuant to the authority granted to the United States Small Business Administration by the Final Order of the United States District Court entered, the United States Small Business Administration hereby revokes the license of Preferential Capital Corporation, a New York corporation, to function as a small business investment company under the Small Business Investment Company License No. 02/02-0372 issued to Preferential Capital Corporation on September 14, 1979 and said license is hereby declared null and void as of June 12, 2002.

United States Small Business Administration

Dated: June 13, 2002.
Margaret T. Dennin,
Chief Administrative Officer, Investment Division.

[FR Doc. 02-15815 Filed 6-24-02; 8:45 am]

BILLING CODE 8025-01-P